NATIONAL AERONAUTICS AND SPACE ADMINISTRATION

[Notice (15-002)]

Notice of Intent To Grant Exclusive License

AGENCY: National Aeronautics and Space Administration.

ACTION: Notice of intent to grant exclusive license.

SUMMARY: This notice is issued in accordance with 35 U.S.C. 209(e) and 37 CFR 404.7(a)(1)(i). NASA hereby gives notice of its intent to grant an exclusive license in the United States to practice the inventions described and claimed in U.S. Patent Applications Serial Numbers 12/571,049 and 14/168,830, Polyimide Aerogels With Three Dimensional Cross-Linked Structure, LEW-18486-1 and LEW 18,486-2; U.S. Patent Application Serial Number 13/804,546, Flexible, High Temperature Polyimide/Urea Aerogels, LEW-18825-1; U.S. Patent Applications Serial Numbers 13/756,855 and 61/594,657, Polyimide Aerogel Thin Films, LEW-18864-1; U.S. Patent Application Serial Number 13/653,027, Novel Aerogel-Based Antennas (ABA) for Aerospace Applications, LEW-18893-1; and U.S. Patent Application Serial Number 61/993,610, Polyimide Aerogels with Polyamide Cross-Links, LEW 19,200-1, to FLEXcon Company, Inc., having its principal place of business in Spencer, Massachusetts. The fields of use may be limited to thin films in roll form in thicknesses ranging from 0 to 100 mils in the following industries: Aerospace, wire insulation, pipe insulation, variable printing labeling, automotive, electromagnetic electronics, thermal electronics, general insulation, large appliances, and wireless devices. The patent rights in these inventions as applicable have been assigned to the United States of America as represented by the Administrator of the National Aeronautics and Space Administration. The prospective exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive license. Objections submitted in response to this notice will not be made available to the public for inspection and, to the extent permitted by law, will not be released under the Freedom of Information Act, 5 U.S.C. 552.

ADDRESSES: Objections relating to the prospective license may be submitted to Intellectual Property Counsel, Office of Chief Counsel, NASA Glenn Research Center, 21000 Brookpark Rd., MS 21-14, Cleveland, OH 44135. Phone (216) 433-5754. Facsimile (216) 433-6790.

FOR FURTHER INFORMATION CONTACT: Kaprice Harris, Intellectual Property Counsel, Office of Chief Counsel, NASA Glenn Research Center, 21000 Brookpark Rd., MS 21-14, Cleveland, OH 44135. Phone (216) 433-5754. Facsimile (216) 433-6790. Information about other NASA inventions available for licensing can be found online at https://technology.grc.nasa.gov.

Sumara M. Thompson-King,
General Counsel.

[FR Doc. 2015-01115 Filed 1-22-15; 8:45 am]

BILLING CODE 7510-13-P